DEPARTMENT OF COMMERCE

National Oceanic and Atmospheric Administration

50 CFR Part 648

[Docket No. 071106654-7655-01]

RIN 0648-AW20

Fisheries of the Northeastern United States; Regulatory Amendment to Modify Recordkeeping and Reporting and Observer Requirements; Correction

AGENCY: National Marine Fisheries Service (NMFS), National Oceanic and Atmospheric Administration (NOAA), Commerce.

ACTION: Final rule; correcting amendment.

SUMMARY: On April 23, 2007, NMFS published in the Federal Register a final rule to implement measures requiring observers for participating hagfish vessels in the Federal Register as part of the hagfish information collection program. On June 13, 2007, NMFS published a separate final rule that inadvertently deleted these regulations implemented in the April 23, 2007, rule. This correcting amendment corrects this error by reinstating the language regarding hagfish observer requirements.

DATES: Effective December 4, 2007.

FOR FURTHER INFORMATION CONTACT: Emily Bryant, Fishery Management Specialist, (978) 281-9244.

SUPPLEMENTARY INFORMATION: On October 3, 2006, the New England Fishery Management Council (Council) sent NMFS a request to prepare an information collection program for the Atlantic hagfish fishery under the provisions of section 402(a) of the Magnuson-Stevens Fishery Conservation and Management Act (Magnuson-Stevens Act). On April 23, 2007, in response to the Council's request, NMFS published a final rule to implement measures to modify the existing reporting and recordkeeping requirements for federally permitted seafood dealers/processors and the observer requirements for participating hagfish vessels in the Federal Register (72 FR 20036). The adjustments made to the at-sea sea sampler/observer coverage regulations at 50 CFR 648.11 through the April 23, 2007, final rule were inadvertently deleted when another final rule that revised the same section of regulations was published in the Federal Register on June 13, 2007 (72 FR 32549). This correcting amendment corrects this error by reinstating language previously added to 50 CFR 648.11, stating that under the hagfish information collection program, any vessel owner/operator that fishes for, catches, or lands hagfish, or intends to fish for, catch, or land hagfish in or from the exclusive economic zone (EEZ) will be required to carry an observer when requested by the Regional Administrator. This language is reinstated so as to maintain the regulatory text implementing Amendment 13 of the Atlantic Sea Scallop Fishery Management Plan.

Classification

Pursuant to 5 U.S.C. 553(b)(B), the Assistant Administrator finds good cause to waive prior notice and opportunity for additional public comment for this action because any delay of this action would be contrary to the public interest. As explained above, this rule reinstates regulatory text that had already been implemented but was unintentionally and inadvertently deleted during the implementation of another unrelated rule. Observer coverage is particularly important to determine potentially high discard rates that have been reported to occur in the hagfish fishery in order to determine what management measures may be necessary to reduce such discard. Further, without data collected from the observer program, the status of the stock can not be adequately determined and it is not possible to capture accurately the geographic and seasonal aspects of the fishery, which reflect overseas demand, and ensure that the resource may be sustained for future years. Without this information, future management efforts cannot be developed and, therefore, will be delayed unnecessarily. Such a delay may negatively impact commercial fishermen that fish for hagfish, who have reported that regional depletion in the fishery is occurring. Moreover, pursuant to 5 U.S.C. 553(d), the Assistant Administrator finds good cause to waive the 30-day delay in effective date for the reasons given above. Without data collected from the observer program, the status of the stock can not be adequately determined and it is not possible to capture accurately the geographic and seasonal aspects of the fishery, which reflect overseas demand, and ensure that the resource may be sustained for future years. Without this information, future management efforts cannot be developed and, therefore, will be delayed unnecessarily. Delaying the rule for 30 days may negatively impact fishermen who fish for hagfish and have observed regional depletion occurring in this fishery. In addition, the final rule that had added the subsequently deleted text had already been subjected to a 30-day delay in implementation and, therefore, an additional delay to correct the deletion is unnecessarily duplicative.

List of Subjects in 50 CFR Part 648

Fisheries, Fishing, Reporting and recordkeeping requirements.

Dated: November 28, 2007.
Samuel D. Rauch III,
Deputy Assistant Administrator For Regulatory Programs, National Marine Fisheries Service.

For the reasons set out in the preamble, 50 CFR part 648 is corrected by making a correcting amendment as follows:

PART 648—FISHERIES OF THE NORTHEASTERN UNITED STATES

1. The authority citation for part 648 continues to read as follows:

Authority: 16 U.S.C. 1801 et seq.

2. In § 648.11, paragraph (a) is revised to read as follows:

§ 648.11 At-sea sampler/observer coverage.

(a) The Regional Administrator may request any vessel holding a permit for Atlantic sea scallops, NE multispecies, monkfish, skates, Atlantic mackerel, squid, butterfish, scup, black sea bass, bluefish, spiny dogfish, Atlantic herring, tilefish, or Atlantic deep-sea red crab; or a moratorium permit for summer flounder; to carry a NMFS-certified fisheries observer. A vessel holding a permit for Atlantic sea scallops is subject to the additional requirements specific in paragraph (g) of this section. Also, any vessel or vessel owner/operator that fishes for, catches or lands hagfish, or intends to fish for, catch, or land hagfish in or from the exclusive economic zone must carry a NMFS-certified fisheries observer when requested by the Regional Administrator in accordance with the requirements of this section.

* * * * *

[FR Doc. E7-23513 Filed 12-3-07; 8:45 am]

BILLING CODE 3510-22-S